DEPARTMENT OF EDUCATION

Notice of Proposed Information Collection Requests

Correction

In notice document E8-11129 appearing on page 28810 in the issue of Monday, May 19, 2008, make the following correction:

On page 28810, in the first column, under the DATES heading, in the second and third lines, “June 18, 2008” should read “July 18, 2008”.

[FR Doc. Z8-11129 Filed 5-22-08; 8:45 am]

BILLING CODE 1505-01-D

SECURITIES AND EXCHANGE COMMISSION

[Release No. 34-57802; File No. SR-FICC-2008-02]

Self-Regulatory Organizations; Fixed Income Clearing Corporation; Notice of Filing of Proposed Rule Change to Require Demand Processing for Blind-Brokered Repo Trades

May 8, 2008.

Correction

In notice document E8-10725 beginning on page 27873, in the issue of Wednesday, May 14, 2008, make the following correction:

On page 27873, in the first column, the heading is corrected to include the date “May 8, 2008.

[FR Doc. Z8-10725 Filed 5-22-08; 8:45 am]

BILLING CODE 1505-01-D